ENVIRONMENTAL PROTECTION AGENCY

[FRL-7783-2; E-docket No.: ORD-2004-0007]

Draft Toxicological Review of Naphthalene: In Support of Summary Information on the Integrated Risk Information System (IRIS)

AGENCY: Environmental Protection Agency.

ACTION: Notice of an external peer review panel meeting.

SUMMARY: The U.S. Environmental Protection Agency (EPA) is announcing an external peer review panel meeting to review the inhalation cancer assessment and selected text in the external review draft document entitled, “Toxicological Review of Naphthalene: In Support of Summary Information on the Integrated Risk Information System (IRIS)” (NCEA-S-1707). The document was prepared by EPA's National Center for Environmental Assessment (NCEA) of the Office of Research and Development. EPA will use comments and recommendations from the expert panel meeting to finalize the draft document.

DATES: The one-day meeting will be held on July 30, 2004 from 8:30 a.m. until 5 p.m. Members of the public may attend as observers.

ADDRESSES: The external peer review panel meeting will be held at the American Geophysical Union (AGU) Headquarters, 2000 Florida Ave., NW., Washington, DC 20009. Under an Interagency Agreement with EPA and the Department of Energy, the Oak Ridge Institute of Science and Education (ORISE) is organizing, convening, and conducting the peer review panel meeting. To attend the meeting, register by July 23, 2004, by visiting the ORISE Web site: http://www.orau.gov/naphthalene. Interested parties may also register by contacting Leslie Shapard (ORISE) at (865) 241-5784. Space is limited and reservations will be accepted on a first-come, first-served basis.

FOR FURTHER INFORMATION CONTACT: Questions regarding registration and logistics should be directed to Leslie Shapard, ORISE, PO Box 117, MS 17, Oak Ridge, TN 37831-0117, (865) 241-5784 (telephone), (865) 241-3168 (facsimile) or ShapardL@orau.gov (e-mail). If you have questions about the document (see Supplementary Information below regarding access to the document), contact Lynn Flowers, IRIS Staff, National Center for Environmental Assessment, 1200 Pennsylvania Avenue, NW., MS-8601D, Washington, DC 20460, (202) 564-1537 (telephone), (202) 565-0075 (facsimile) or flowers.lynn@epa.gov (e-mail).

SUPPLEMENTARY INFORMATION: IRIS is a data base that contains Agency scientific positions on potential adverse human health effects that may result from chronic (or lifetime) exposure to specific chemical substances found in the environment. The data base (available on the Internet at http://www.epa.gov/iris) contains qualitative and quantitative health effects information for more than 500 chemical substances that may be used to support the first two steps (hazard identification and dose-response evaluation) of the risk assessment process. When supported by available data, the data base provides risk estimates for chronic noncancer health effects and carcinogenic effects. Combined with specific exposure information, government and private entities use IRIS to help characterize public health risks of chemical substances in a site-specific situation and thereby support risk management decisions designed to protect public health.

Naphthalene (CASRN 91-20-3) is a bicyclic aromatic hydrocarbon produced by distillation and fractionation of either petroleum or coal tar. Naphthalene's principal use is as an intermediate in the production of phthalic anhydride, which is important in the manufacturing of plasticizers, resins, dyes, and insect repellants. It has been used as a moth repellant and as a deodorizer for diaper pails and toilets and has been detected in soil and water at hazardous waste sites and in smoke from wood and cigarettes. The current IRIS assessment for naphthalene was placed on the data base in 1998 and contains quantitative risk estimates for noncancer effects, both from oral and inhalation exposure, and a cancer assessment. A reassessment of potential human carcinogenicity from inhalation exposure has been undertaken in response to newer studies that have become available. The assessment does not contain a reevaluation of noncancer effects or oral cancer assessment.

EPA has established an official public docket for this action under Docket ID No. ORD-2004-0007. The official public docket consists of the document referenced in this notice and a list of charge questions that have been submitted to the external peer reviewers. Both the document and the charge are available on the Internet at http://www.epa.gov/edocket/. Once in the system, select “advanced search,” then key in the appropriate docket identification number [ORD-2004-0007]. A limited number of paper copies are available by contacting the IRIS Hotline at (202) 566-1676 or (202) 566-1749 (facsimile). If you are requesting a paper copy, please provide your name, mailing address, and the document title and number, “Draft Toxicological Review of Naphthalene: In Support of Summary Information on the Integrated Risk Information System (IRIS)” (NCEA-S-1707). Copies are not available from ORISE.

You may also find a copy of the document at the EPA Docket Center Reading Room. The address of the Public Reading Room is EPA Docket Center, Environmental Protection Agency, Room B102, 1200 Pennsylvania Ave., NW., Washington, DC 20460-0001. Visitation is between 8:30 a.m. and 4:30 p.m. Monday through Friday, excluding legal holidays. The telephone number for the Public Reading Room is (202) 566-1744.

Although a part of the official docket, the public docket does not include Confidential Business Information (CBI) or other information whose disclosure is restricted by statute.

Dated: June 30, 2004.
Peter W. Preuss,
Director, National Center for Environmental Assessment.

[FR Doc. 04-15348 Filed 7-6-04; 8:45 am]

BILLING CODE 6560-50-P